DEPARTMENT OF THE INTERIOR

Fish and Wildlife Service

Notice of availability of Draft Comprehensive Conservation Plan for Lost Trail National Wildlife Refuge, Marion, Montana

AGENCY: Fish and Wildlife Service, Interior.

ACTION: Notice of availability.

SUMMARY: The U.S. Fish and Wildlife Service announce that a Draft Comprehensive Conservation Plan (CCP) and Environmental Assessment (EA) for Lost Trail National Wildlife Refuge is available. This CCP, prepared pursuant to the National Wildlife Refuge System Improvement Act of 1997 and the National Environmental Policy Act of 1969, describes how the U.S. Fish and Wildlife Service intends to manage this refuge for the next 15 years.

DATES: Written comments must be received at the postal or electronic address listed below on or before August 19, 2005.

ADDRESSES: Please provide written comments to Bernardo Garza, Planning Team Leader, Division of Planning, Branch of Comprehensive Conservation Planning, Mountain-Prairie Region, PO Box 25486, Denver Federal Center, Denver, Colorado 80225-0486, or electronically to bernardo_garza@fws.gov. A copy of the Draft Plan and Environmental Assessment may be obtained by writing to U.S. Fish and Wildlife Service, Lost Trail National Wildlife Refuge, 6900A Pleasant Valley Road, Marion, Montana 59955; or download from http://mountain-prairie.fws.gov/planning.

FOR FURTHER INFORMATION CONTACT: Ray Washtak, Refuge Manager, U.S. Fish and Wildlife Service, Lost Trail National Wildlife Refuge, 6900A Pleasant Valley Road, Marion, Montana 59955; telephone: (406) 858-2216; fax: (406) 858-2218; or e-mail: ray_washtak@fws.gov.

SUPPLEMENTARY INFORMATION: Lost Trail National Wildlife Refuge (NWR), comprised of nearly 9,300 acres, is long and narrow, and is nearly bisected throughout its length by the Pleasant Valley Road in Flathead County, in extreme northwestern Montana. This refuge was established in 1999 and is nestled in Montana's Pleasant Valley, within the Fisher River Watershed. Lost Trail NWR can be described as a long valley crossed by Pleasant Valley Creek and encompassing the 182-acre Dahl Lake. Lost Trail NWR is comprised of wetlands, riparian corridors, uplands dominated by prairie and tame grasses, and temperate forests dominated by lodgepole pine and Douglas-fir. Besides numerous migratory waterfowl and neotropical bird species, this refuge is home to federally listed species such as the bald eagle, black tern, boreal toad, and Spalding's catchfly. Canada lynx and trumpeter swan occasionally use refuge habitats, and the grizzly bear, gray wolf, and bull trout occur in Pleasant Valley. Lost Trail NWR was established by Congress with the following purposes: (1) For use by migratory birds, with emphasis on waterfowl and other water birds; (2) for the conservation of fish and wildlife resources; (3) for fish and wildlife-oriented recreation; and (4) for the conservation of endangered and threatened species.

This Draft CCP/EA identifies and evaluates four alternatives for managing Lost Trail NWR for the next 15 years. Alternative D, the No Action Alternative, proposes continuation of current management of the refuge. Alternative A (Proposed Action) emphasizes restoration and maintenance of Dahl Lake, and other native habitats, in vigorous condition to promote biological diversity. High importance is placed on the control of invasive plant species with partners and integrated pest management. It provides habitat in order to contribute to conservation, enhancement and recovery of federally listed species; and possible modification of public uses to protect visitors, and minimize harmful interaction between users and listed species. Alternative B emphasizes manipulation of habitat to promote wildlife populations to provide the public with abundant quality wildlife recreation, as well as, active research, documentation, and interpretation of cultural resources. This alternative calls for a contact station staffed 7 days a week. Alternative C calls for restoration of habitats to historic conditions, and allowance of natural processes to manage habitats; provides for increased protection of listed species, and de-emphasizing public use opportunities at the refuge (such as no fishing and hunting, except by special permits).

The Proposed Action was selected because it best meets the purposes and goals of Lost Trail NWR, as well as the goals of the National Wildlife Refuge System. The Proposed Action will benefit migrating and nesting waterfowl and neotropical migrants, shore birds, federally listed species, large ungulates, as well as improvements in water quality from riparian habitat restoration. Environmental education and partnerships will result in improved wildlife-dependent recreational opportunities. Cultural and historical resources will be protected.

Dated: May 27, 2005.
Ron Shupe,
Acting Regional Director, Region 6, Denver, CO.

[FR Doc. 05-14223 Filed 7-19-05; 8:45 am]

BILLING CODE 4310-55-P